DEPARTMENT OF TRANSPORTATION

Federal Aviation Administration

14 CFR Part 39

[Docket No. FAA-2011-0561; Directorate Identifier 2010-SW-001-AD; Amendment 39-16715; AD 2011-12-08]

RIN 2120-AA64

Airworthiness Directives; Bell Helicopter Textron, Inc. Model 205A, 205A-1, 205B, 212, 412, 412CF, and 412EP Helicopters

AGENCY: Federal Aviation Administration, DOT.

ACTION: Final rule; request for comments.

SUMMARY: This amendment adopts a new airworthiness directive (AD) for the specified Bell Helicopter Textron, Inc. (BHT) model helicopters with tail rotor (T/R) blades with certain serial numbers installed. This action requires a one-time inspection of the T/R blade for corrosion or pitting, and repairing or replacing the T/R blade, if that condition is found during the inspection. This amendment is prompted by a report from the manufacturer that T/R blades with certain serial numbers may have manufacturing anomalies in the spar area. These actions are intended to detect corrosion or pitting in the forward spar area of a T/R blade to prevent a crack in the T/R blade, loss of the T/R blade, and subsequent loss of control of the helicopter.

DATES: Effective July 5, 2011.

The incorporation by reference of certain publications listed in the regulations is approved by the Director of the Federal Register as of July 5, 2011.

Comments for inclusion in the Rules Docket must be received on or before August 16, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron, Inc., P.O. Box 482, Fort Worth, TX 76101, telephone (817) 280-3391, fax (817) 280-6466, or at http://www.bellcustomer.com/files/.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, Michael Kohner, ASW-170, Aviation Safety Engineer, Rotorcraft Directorate, Rotorcraft Certification Office, 2601 Meacham Blvd., Fort Worth, Texas 76137, telephone (817) 222-5447, fax (817) 222-5783.

SUPPLEMENTARY INFORMATION: This amendment adopts a new AD for the specified BHT model helicopters with an installed T/R blade, part number 212-010-750 (all dash numbers), all serial numbers except those with a prefix of “A” and the number 17061 or larger. This action requires a one-time inspection of the T/R blade for corrosion or pitting after sanding the paint from the spar area between blade stations 22.5 and 40.0, and repairing or replacing the T/R blade if corrosion, pitting, or damage is discovered. This amendment is prompted by a report from the manufacturer that T/R blades with certain serial numbers may have manufacturing anomalies in the spar area as a result of the chemical milling process. The anomalies may be identified as pits or corrosion on the spar. This corrosion or pitting condition in the forward spar of a T/R blade, if not corrected, could lead to a crack in the T/R blade, loss of the T/R blade, and subsequent loss of control of the helicopter.

We have reviewed the following BHT Alert Service Bulletins, all Revision A, and all dated December 8, 2009, which specify a one-time inspection of the T/R blades for corrosion or pitting, and repairing or replacing the T/R blade if corrosion, pitting, or other damage is discovered:

• Alert Service Bulletin (ASB) No. 205-09-102, for Model 205A and 205A-1 helicopters;

• ASB No. 205B-09-54, for Model 205B helicopters;

• ASB No. 212-09-134, for Model 212 helicopters;

• ASB No. 412CF-09-38, for Model 412CF helicopters; and

• ASB No. 412-09-136, for Model 412 and 412EP helicopters.

This unsafe condition is likely to exist or develop on other helicopters of these same type designs. Therefore, this AD is being issued to require inspecting the T/R blades to detect corrosion or pitting in the forward spar area that could result in a crack, loss of a T/R blade, and subsequent loss of control of the helicopter. Accomplish the actions by following specified portions of the ASBs described previously.

The short compliance time involved is required because the previously described critical unsafe condition can adversely affect the structural integrity and controllability of the helicopter. Therefore, inspecting the T/R blade for corrosion or pitting is required within 25 hours time-in-service (TIS) or 30 days, whichever occurs first. This is a very short compliance time, and this AD must be issued immediately.

Since a situation exists that requires the immediate adoption of this regulation, it is found that notice and opportunity for prior public comment hereon are impracticable, and that good cause exists for making this amendment effective in less than 30 days.

We estimate that this AD will affect 263 helicopters. Removing, inspecting, refinishing, and re-installing the T/R blade will take about 10 work hours at an average labor rate of $85 per work hour and an approximate labor cost of $850 per helicopter. Replacing the T/R blade with an airworthy blade will take about 6 work hours at an average labor rate of $85 per work hour for an approximate labor cost of $510 per helicopter. Required parts will cost about $17,495 for each T/R blade assembly. Based on these figures, we estimate the total cost impact of the AD on U.S. operators to be $277,565, assuming all affected helicopters are inspected and three T/R blades are replaced.

Comments Invited

This AD is a final rule that involves requirements that affect flight safety and was not preceded by notice and an opportunity for public comment; however, we invite you to submit any written data, views, or arguments regarding this AD. Send your comments to an address listed under ADDRESSES. Include “Docket No. FAA-2011-0561; Directorate Identifier 2011-SW-001-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends Part 39 of the Federal Aviation Regulations (14 CFR Part 39) as follows:

PART 39—AIRWORTHINESS DIRECTIVES

1. The authority citation for Part 39 continues to read as follows:

Authority: 49 U.S.C. 106(g), 40113, 44701.

§ 39.13 [Amended]

2. Section 39.13 is amended by adding a new airworthiness directive (AD) to read as follows:

2011-12-08 Bell Helicopter Textron, Inc. (BHT): Amendment 39-16715. Docket No. FAA-2011-0561; Directorate Identifier 2010-SW-001-AD.

Applicability: Model 205A, 205A-1, 205B, 212, 412, 412CF, and 412EP helicopters with a tail rotor (T/R) blade, part number 212-010-750 (all dash numbers), all serial numbers (S/Ns) except those S/Ns with a prefix of “A” and a number 17061 or larger, installed, certificated in any category.

Compliance: Required as indicated, unless accomplished previously.

To detect corrosion or pitting in the forward spar area of a T/R blade to prevent a crack in the T/R blade, loss of the T/R blade, and subsequent loss of control of the helicopter, do the following:

(a) Within 25 hours time-in-service (TIS) or 30 days, whichever occurs first:

(1) Remove the T/R hub and blade assembly from the helicopter and remove the T/R blade from the hub. Remove the paint from the spar area on both sides of the T/R blade by following the Accomplishment Instructions, paragraphs 3. through 5., of the following BHT Alert Service Bulletins, all Revision A, and all dated December 8, 2009: Alert Service Bulletin (ASB) No. 205-09-102 for the Model 205A and 205A-1 helicopters; ASB No. 205B-09-54 for the Model 205B helicopters; ASB No. 212-09-134 for the Model 212 helicopters; ASB No. 412CF-09-38 for the Model 412CF helicopters; and ASB No. 412-09-136 for the Model 412 and 412EP helicopters.

(2) Using a 3-power or higher magnifying glass, visually inspect both sides of the T/R blade for any corrosion or pitting in the spar inspection areas as depicted in Figure 1 of the ASB for your model helicopter.

(b) Before further flight:

(1) If you find any corrosion or pitting that is 0.003 inch deep or less, either replace the unairworthy T/R blade with an airworthy T/R blade or repair the T/R blade.

Note: The maintenance and repair procedures along with the maximum repair damage limitations as referenced in paragraphs (b)(1) and (b)(3) of this AD are contained in the applicable maintenance manual and component repair and overhaul manuals.

(2) If you find any corrosion or pitting that is greater than 0.003 inch deep, replace the T/R blade with an airworthy T/R blade.

(3) If any parent material is removed during the sanding operation required by paragraph (a)(1) of this AD, either replace the T/R blade with an airworthy T/R blade, or repair the T/R blade if the parent material removed is within the maximum repair damage limits.

(4) If there is no corrosion or pitting and no damage greater than 0.003 inch deep, refinish the inspection areas and reinstall each T/R blade onto the T/R hub, install the T/R assembly on the helicopter and track and balance the T/R in accordance with the Accomplishment Instructions, paragraphs 8. through 10., of the ASB for your model helicopter.

(c) To request a different method of compliance or a different compliance time for this AD, follow the procedures in 14 CFR 39.19. Contact the Manager, Rotorcraft Certification Office, FAA, Attn: Michael Kohner, ASW-170, Aviation Safety Engineer, 2601 Meacham Blvd., Fort Worth, Texas 76137, telephone (817) 222-5170, fax (817) 222-5783, for information about previously approved alternative methods of compliance.

(d) Joint Aircraft System/Component (JASC) Code 6410: Tail rotor blades.

(e) Accomplish the instructions in this AD by following the specified portions of the following Bell Helicopter Textron, Inc. Alert Service Bulletin, as applicable to your model helicopter: No. 205-09-102; No. 205B-09-54; No. 212-09-134; No. 412CF-09-38, or No. 412-09-136. Each Alert Service Bulletin is Revision A, and each is dated December 8, 2009. The Director of the Federal Register approved this incorporation by reference in accordance with 5 U.S.C. 552(a) and 1 CFR Part 51. Copies may be obtained from Bell Helicopter Textron, Inc., P.O. Box 482, Fort Worth, TX 76101, telephone (817) 280-3391, fax (817) 280-6466, or at http://www.bellcustomer.com/files. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on July 5, 2011.

Issued in Fort Worth, Texas, on May 17, 2011.
Kim Smith,
Manager, Rotorcraft Directorate, Aircraft Certification Service.

[FR Doc. 2011-14247 Filed 6-16-11; 8:45 am]

BILLING CODE 4910-13-P